DEPARTMENT OF HEALTH AND HUMAN SERVICES

Centers for Disease Control and Prevention

[30DAY-41-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

National Hospital Ambulatory Medical Care Survey—0920-0278)—Revision—(NCHS)—The National Hospital Ambulatory Medical Care Survey (NHAMCS) has been conducted annually since 1992 and is directed by the Division of Health Care Statistics, National Center for Health Statistics, Centers for Disease Control and Prevention. The purpose of the NHAMCS is to meet the needs and demands for statistical information about the provision of ambulatory medical care services in the United States. Ambulatory services are rendered in a wide variety of settings, including physicians' offices and hospital outpatient and emergency departments. The target universe of the NHAMCS is in-person visits made in the United States to outpatient departments and emergency departments of non-Federal, short-stay hospitals (hospitals with an average length of stay of less than 30 days) or those whose specialty is general (medical or surgical) or children's general. The NHAMCS was initiated to complement the National Ambulatory Medical Care Survey (NAMCS, OMB No. 0920-0234) which provides similar data concerning patient visits to physicians' offices. The NAMCS and NHAMCS are the principal sources of data on approximately 90 percent of ambulatory care provided in the United States.

The NHAMCS provides a range of baseline data on the characteristics of the users and providers of ambulatory medical care. Data collected include patients' demographic characteristics and reason(s) for visit, and the physicians' diagnosis(es), diagnostic services, medications, and disposition. These data, together with trend data, may be used to monitor the effects of change in the health care system, the planning of health services, improving medical education, determining health care work force needs, and assessing the health status of the population.

Users of NHAMCS data include, but are not limited to, congressional offices, Federal agencies such as NIH, state and local governments, schools of public health, colleges and universities, private industry, nonprofit foundations, professional associations, as well as individual practitioners, researchers, administrators, and health planners. Uses vary from the inclusion of a few selected statistics in a large research effort, to an in-depth analysis of the entire NHAMCS data set covering several years.

The number of respondents for the NHAMCS is based on a sample of 600 hospitals with an 87 percent participation rate. The total annual burden hours is 13.450.

Form name | Number of respondents | Number of responses | Avg. burden per response (hours) | Total Burden (in hours)
Hospital Induction (NHAMCS-101):
Ineligible | 65 | 1 | 15/60 | 16
Eligible | 535 | 1 | 70/60 | 624
Ambulatory Unit Induction (ED) (NHAMCS-101/U) | 435 | 1 | 1 | 435
Ambulatory Unit Induction (OPD) (NHAMCS-101/U) | 300 | 4 | 1 | 1,200
ED Patient Record Form | 435 | 100 | 5/60 | 3,625
OPD Patient Record Form | 300 | 300 | 5/60 | 7,500
Nonresponse study | 50 | 1 | 1 | 50
Total |  |  |  | 13,450

Dated: June 14, 2000.
Charles W. Gollmar,
Acting Associate Director for Policy, Planning and Evaluation, Centers for Disease Control and Prevention (CDC).

[FR Doc. 00-15458 Filed 6-16-00; 8:45 am]

BILLING CODE 4163-18-P